DEPARTMENT OF JUSTICE

Notice of Lodging of Proposed Consent Decree Under The Comprehensive Environmental Response, Compensation, and Liability Act (CERCLA), the Clean Water Act (CWA), and the Oil Pollution Act (OPA)

On January 24, 2023, the Department of Justice lodged a proposed consent decree with the United States District Court for the Western District of Washington in the lawsuit entitled United States of America, State of Washington, Suquamish Tribe, and Muckleshoot Indian Tribe v. Lynden, Inc., et al., Civil Action No. 2:23-cv-00101.

The proposed consent decree resolves claims brought by the United States on behalf of the National Oceanic and Atmospheric Administration and the Department of the Interior, the State of Washington, the Suquamish Tribe, and the Muckleshoot Indian Tribe (collectively, the Natural Resource Trustees) against Lynden, Inc., Knik Construction Co., Inc., Douglas Management Company, Alaska Marine Lines, Inc., Swan Bay Holdings, Inc., Bering Marine Corp., 7100 First Avenue S Seattle, LLC, 5615 West Marginal Way SW Seattle, LLC, 5600 West Marginal Way SW Seattle, LLC, LTI, Inc., Lynden Transport, Inc. (f/k/a Lynden Transfer, Inc.), and Alagnak Holdings, LLC (Defendants) for natural resource damages caused by releases of hazardous substances and discharges of oil from facilities owned and/or operated at various times by the Defendants, located along and near the Lower Duwamish River, pursuant to section 107(a) of CERCLA, section 311 of the CWA, section 1002(b) of OPA, and the Washington Model Toxics Control Act (MTCA), RCW 70.105D. The settlement requires Defendants to make a payment of $556,250 for natural resource damages to the Trustees, and to purchase restoration credits in a restoration project constructed along the Lower Duwamish River by a project developer to serve as a restoration credit bank. The settlement also requires Defendants to pay their equitable share of assessment costs incurred by the Natural Resource Trustees, totaling $31,528.25. The Defendants will receive covenants not to sue under the statutes listed in the complaint and proposed consent decree for specified natural resource damages.

The publication of this notice opens a period for public comment on the proposed consent decree. Comments should be addressed to the Assistant Attorney General, Environment and Natural Resources Division, and should refer to United States et al. v. Lynden, Inc., et al., D.J. Ref. No. 90-11-3-07227/5. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department website: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $10.75 (25 cents per page reproduction cost) payable to the United States Treasury.

Kathryn C. Macdonald,
Assistant Section Chief, Environmental Enforcement Section, Environment and Natural Resources Division.

[FR Doc. 2023-01836 Filed 1-27-23; 8:45 am]

BILLING CODE 4410-15-P